DEPARTMENT OF AGRICULTURE

Forest Service

Black Hills National Forest Advisory Board Public Meeting Dates Announced

AGENCY: Forest Service, USDA.

ACTION: Notice of meetings.

SUMMARY: The Black Hills National Forest Advisory Board (NFAB) has announced its meeting dates for 2006. These meetings are open to the public, and public comment is accepted at any time in writing and during the last 15 minutes of each meeting for spoken comments. Persons wishing to speak are given three minutes to address the Board.

Meeting dates are the third Wednesday of each month unless otherwise indicated:

January 4 (Previously announced)

February 15

March 22 (Moved to fourth Wednesday due to Biomass Conference in Denver the previous week)

April 19

May 17

June 21

July 19

August 16 (Summer Field Trip—TBA)

September 20

October 18

November 15

December 20

January 3, 2007 (Tentative)

ADDRESSES: Meetings will be begin at 1 p.m. and end no later than 5 p.m. at the West River Ag Center, 1905 Plaza Boulevard, Rapid City, SD 57731.

Agenda: The Board will consider a variety of issues related to national forest management. Agendas will be announced in advance in the news media but principally concern implementing phase two of the forest land and resource management plan. The Board will consider such topics as integrated vegetation management (wild and prescribed fire, fuels reduction, controlling insect epidemics, invasive species), travel management (off highway vehicles, the new OHV rule, and related topics), and forest fragmentation, among others.

FOR FURTHER INFORMATION CONTACT: Frank Carroll, Committee Management Officer, Black Hills National Forest, 25041 North Highway 16, Custer, SD 57730, (605) 673-9200.

Dated: December 5, 2005.
Craig Bobzien,
Forest Supervisor.

[FR Doc. 05-23895 Filed 12-9-05; 8:45 am]

BILLING CODE 3410-11-M